DEPARTMENT OF COMMERCE

Patent and Trademark Office

[Docket No.: PTO-C-2016-0047]

National Telecommunications and Information Administration; Notice of Public Meeting on Developing the Digital Marketplace for Copyrighted Works

AGENCY: United States Patent and Trademark Office, U.S. Department of Commerce; National Telecommunications and Information Administration, U.S. Department of Commerce.

ACTION: Notice of public meeting.

SUMMARY: The Department of Commerce's Internet Policy Task Force (Task Force) will hold a conference at the United States Patent and Trademark Office (USPTO) facility in Alexandria, Virginia, on December 9, 2016, to discuss current initiatives and technologies used to develop a more robust and collaborative digital marketplace for copyrighted works and to consider ways forward to help achieve that result. This follows up on an earlier public meeting held by the Task Force on April 1, 2015, which focused on how the Government can assist in facilitating the development and use of standard identifiers for all types of works of authorship.

DATES: The public meeting will be held on December 9, 2016, from 8:30 a.m. to 4:00 p.m., Eastern Standard Time. Registration will begin at 8:00 a.m.

ADDRESSES: The public meeting will be held at the United States Patent and Trademark Office in the Madison Auditorium, which is located at 600 Dulany Street, Alexandria, Virginia 22314. All major entrances to the building are accessible to people with disabilities. In addition, the meeting will be webcast for public viewing at the following USPTO Regional Offices: the Rocky Mountain Regional Office, 1961 Stout Street, Denver, Colorado 80294; the West Coast Regional Office, 26 S. Fourth Street, San Jose, California 95113; and the Texas Regional Office, 207 South Houston Street, Suite 159, Dallas, Texas 75202.

FOR FURTHER INFORMATION CONTACT: For further information regarding the meeting, contact Nadine Herbert or Susan Allen, Office of Policy and International Affairs, USPTO, Madison Building, 600 Dulany Street, Alexandria, Virginia 22314; telephone (571) 272-9300; email Nadine.Herbert@uspto.gov or Susan.Allen@uspto.gov. Please direct all media inquiries to the Office of the Chief Communications Officer, USPTO, at (571) 272-8400.

SUPPLEMENTARY INFORMATION:

Background

A. Ongoing Government Engagement Relating to Copyright in the Digital Economy

The Department of Commerce established the Internet Policy Task Force (Task Force) in 2010 to identify leading public policy and operational issues impacting the U.S. private sector's ability to realize the potential for economic growth and job creation through the Internet. The Task Force's July 2013 report, Copyright Policy, Creativity, and Innovation in the Digital Economy (Green Paper),¹ was the product of extensive public consultations led by the United States Patent and Trademark Office (USPTO) and the National Telecommunications and Information Administration (NTIA).

¹ The Green Paper is available at http://www.uspto.gov/sites/default/files/news/publications/copyrightgreenpaper.pdf.

In October 2013, the USPTO and NTIA published a request for public comments ² relating to three areas of work flowing out of the Green Paper, including whether and how the Government can facilitate the further development of a robust online licensing environment. The request for comments noted that building the online marketplace is fundamentally a function of the private sector and described how that process has been progressing. It noted the Green Paper's conclusion that, while much progress had been made in the licensing of creative content for online uses, there remained a need for more comprehensive and reliable ownership data, interoperable standards enabling communication among databases, and more streamlined licensing mechanisms. It posed a number of questions regarding access to and standardization of rights ownership information, facilitating the effectiveness of the online marketplace, and the role of the Government in such matters.

² Request for Comments on Department of Commerce Green Paper, Copyright Policy, Creativity, and Innovation in the Digital Economy, 78 FR 61337-61341, available at https://www.ntia.doc.gov/files/ntia/publications/ntia_pto_rfc_10032013.pdf.

At a subsequent public meeting in December 2013, two panels addressed issues related to this topic: access to rights information and online licensing transactions. An archive of the webcast of the public meeting is available at http://new.livestream.com/uspto/copyright. A transcript of the public meeting is available at https://www.uspto.gov/ip/global/copyrights/121213-USPTO-Green_Paper_Hearing-Transcript.pdf. Copies of the comments received are available at http://www.uspto.gov/ip/global/copyrights/green_paper_public_comments.jsp.

In April 2015, the Task Force held another public meeting to discuss: The potential for the enhanced use and interoperability of standard identifiers across different sectors and geographical borders; whether the United States should develop or participate in an online licensing platform such as the U.K.'s Copyright Hub; and what the role of the Government should be in furthering any of these efforts. A transcript and videos of the public meeting are available at http://www.uspto.gov/learning-and-resources/ip-policy/copyright/facilitating-development-online-licensing-environment.

The Copyright Office also has solicited public comments and held public meetings on related issues, notably on strategies for the electronic recordation of documents relating to transfers of copyright ownership, including the use of standard identifiers and other metadata standards, and sought comments on how visual works, particularly photographs, graphic artworks, and illustrations, are monetized, enforced, and registered under the Copyright Act.³ In a December 2014 report, Professor Robert Brauneis, then serving as the Kaminstein Scholar in Residence at the Copyright Office, made a number of recommendations, including accommodating standard identifiers in registration and recordation documents to enable interoperability with other databases and developing an application programming interface (API) allowing third parties to develop software to retrieve data from Copyright Office records. In February 2015, the Copyright Office issued a Report on Copyright and the Music Marketplace, which recommended a restructured music licensing marketplace that included a publicly accessible database of musical works and incentivized the use of standard identifiers. The Copyright Office also raised the possibility that its copyright registration database could be modified to incorporate standard identifiers and stated the belief that the best strategy to address data issues would be to incentivize strongly the universal adoption and dissemination of several data standards.

³ See Copyright Office Policy Studies, available at http://www.copyright.gov/policy.

B. The Focus of This Meeting

In the previous public comments and meetings, the Task Force heard from stakeholders that the government can play a useful role by facilitating dialogues between and among industry sectors and by convening stakeholder groups to make recommendations on specific issues. Building upon this feedback, and in light of significant marketplace and technological developments that have taken place since the April 2015 public meeting, the Task Force is organizing this meeting to facilitate constructive, cross-industry dialogue among stakeholders about ways to promote a more robust and collaborative online marketplace for copyrighted works. We will discuss the potential for interoperability across digital registries and standards work in this field, and consider the relevant emerging technologies (e.g., blockchain technology, open source platforms). We will also explore potential approaches to guide their future adoption and integration into the online marketplace.

Topics to be covered will include: (1) Initiatives to take forward the digital content marketplace, with a focus on standards, interoperability, and digital registries and database initiatives to track ownership and usage rights; (2) innovative technologies designed to improve the ways consumers access and use different types of digital content (e.g., photos, film, music); (3) ways that different sectors can collaborate to build a more robust and interconnected digital content marketplace; and (4) the role of government in facilitating such initiatives and technological development. Members of the public will have opportunities to participate at the meeting. One outcome could be to establish working groups to tackle specific issues through a multistakeholder process.

Public Meeting

On December 9, 2016, the Task Force will hold a public meeting to hear stakeholder input and to consider future work in this area. The event will seek participation and comments from interested stakeholders, including creators, right holders, and online services that produce and distribute copyright protected digital content, as well as technology providers, cultural heritage institutions, public interest groups, and academics.

The meeting will be webcast. The agenda and webcast information will be available no later than the week prior to the meeting on the Internet Policy Task Force Web site, at http://www.ntia.doc.gov/internetpolicytaskforce, and the USPTO's Web site, http://www.uspto.gov.

The meeting will be open to members of the public to attend, space permitting, on a first-come, first-served basis. Online registration for the meeting, which is not mandatory, is available at https://www.uspto.gov/learning-and-resources/ip-policy/department-commerce-internet-policy-task-force-public-meeting. The meeting will be physically accessible to people with disabilities. Individuals requiring accommodation, such as sign language interpretation, real-time captioning of the webcast or other ancillary aids, should communicate their needs to Nadine Herbert, Office of Policy and International Affairs, United States Patent and Trademark Office, Madison Building, 600 Dulany Street, Alexandria, Virginia 22314; telephone (571) 272-9300; email Nadine.Herbert@USPTO.gov, at least seven business days prior to the meeting. Attendees should arrive at least one-half hour prior to the start of the meeting and must present a valid government-issued photo identification upon arrival. Persons who have pre-registered (and received confirmation) will have seating held until 15 minutes before the program begins.

Dated: November 15, 2016.
Michelle K. Lee,
Under Secretary of Commerce for Intellectual Property and Director of the United States Patent and Trademark Office.
Angela M. Simpson,
Deputy Assistant Secretary of Commerce for Communications and Information, National Telecommunications and Information Administration.

[FR Doc. 2016-27934 Filed 11-18-16; 8:45 am]

BILLING CODE 3510-16-P